DEPARTMENT OF TRANSPORTATION

Federal Aviation Administration

[Summary Notice No. PE-2000-66]

Petitions for Exemption; Summary of Petitions Received; Dispositions of Petitions Issued

AGENCY: Federal Aviation Administration (FAA), DOT.

ACTION: Notice of petitions for exemption received and of dispositions of prior petitions.

SUMMARY: Pursuant to FAA's rulemaking provisions governing the application, processing, and disposition of petitions for exemption part 11 of title 14, Code of Federal Regulations (14 CFR), this notice contains a summary of certain petitions seeking relief from specified requirements of 14 CFR, dispositions of certain petitions previously received, and corrections. The purpose of this notice is to improve the public's awareness of, and participation in, this aspect of FAA's regulatory activities. Neither publication of this notice nor the inclusion or omission of information in the summary is intended to affect the legal status of any petition or its final disposition.

DATE: Comments on petitions received must identify the petition docket number involved and must be received on or before November 29, 2000.

ADDRESSES: Send comments on any petition in triplicate to: Federal Aviation Administration, Office of the Chief Counsel, Attn: Rule Docket (AGC-200), Petition Docket No. ___, 800 Independence Avenue, SW., Washington, DC 20591.

The petition, any comments received, and a copy of any final disposition are filed in the assigned regulatory docket and are available for examination in the Rules Docket (AGC-200), Room 915G, FAA Headquarters Building (FOB 10A), 800 Independence Avenue, SW., Washington, DC 20591; telephone (202) 267-3132.

FOR FURTHER INFORMATION CONTACT: Forest Rawls (202) 267-8033, or Vanessa Wilkins (202) 267-8029 Office of Rulemaking (ARM-1), Federal Aviation Administration, 800 Independence Avenue, SW., Washington, DC 20591.

This notice is published pursuant to §§ 11.85 and 1191 of part 11 of 14 CFR.

Issued in Washington, DC, on November 3, 2000.
Donald P. Byrne,
Assistant Chief Counsel for Regulations.

Dispositions of Petitions

Docket No.: 30190.

Petitioner: Midwest Express Airlines, Inc.

Section of the 14 CFR Affected: 14 CFR 93.123.

Description of Relief Sought/Disposition: To permit the allocation of exemption slot number 1497 at Ronald Reagan Washington National Airport (DCA) to Midwest Express to augment its service from DCA.

Grant, 10/19/00, Exemption No. 7370.

Docket No.: 30141.

Petitioner: Deniston Enterprises, Inc.

Section of the 14 CFR Affected: 14 CFR 135.299(a).

Description of Relief Sought/Disposition: To permit Deniston pilots to accomplish a line operational evaluation (LOE) in a Level C or Level D flight simulator in lieu of a line check in an aircraft.

Denial, 10/03/00, Exemption No. 7362.

Docket No.: 28517.

Petitioner: Mr. Samuel D. James.

Section of the 14 CFR Affected: 14 CFR 91.109(a) and (b)(3).

Description of Relief Sought/Disposition: To permit Mr. James to conduct certain flight instruction and simulated instrument flights to meet the recent experience requirements in Beechcraft airplanes equipped with a functioning throwover control wheel in place of functioning dual controls.

Grant, 10/03/00, Exemption No. 6532B.

Docket No.: 30159.

Petitioner: Wallace State Community College.

Section of the 14 CFR Affected: 14 CFR 135.251, 135.255, 135.353 and appendixes I and J to part 121.

Description of Relief Sought/Disposition: To permit Wallace State to conduct local sightseeing flights at Folsom Field, Vinemont, Alabama, for the one-day Wings Over Cullman Airshow in October 2000, for compensation or hire, without complying with certain anti-drug and alcohol misuse prevention requirements of part 135.

Grant, 10/06/00, Exemption No. 7365.

Docket No.: 23492.

Petitioner: United States Hang Gliding Association, Inc.

Section of the 14 CFR Affected: 14 CFR 103.1(a) and (b).

Description of Relief Sought/Disposition: To permit individuals authorized by USHGA to operate unpowered ultralight vehicles (hang gliders) weighing less than 155 pounds, with another occupant, for the purpose of sport, training, or recreation.

Grant, 10/03/00, Exemption No. 4712G.

Docket No.: 28639.

Petitioner: Peninsula Airways, Inc. dba PenAir.

Section of the 14 CFR Affected: 14 CFR 121.574(a)(1) and (3).

Description of Relief Sought/Disposition: To permit the carriage and operation of oxygen storage and dispensing equipment for medical use by patients requiring emergency or continuing medical attention while on board an aircraft operated by PenAir when the equipment is furnished and maintained by a hospital treating the patient.

Grant, 09/28/00, Exemption No. 6523B.

[FR Doc. 00-28741 Filed 11-8-00; 8:45 am]

BILLING CODE 4910-13-M